DEPARTMENT OF ENERGY

Federal Energy Regulatory Commission

Combined Notice of Filings #1

December 7, 2007.

Take notice that the Commission received the following electric corporate filings:

Docket Numbers: EC08-19-000.

Applicants: Quachita Power, LLC, Entergy Arkansas, Inc.

Description: Quachita Power, LLC & Entergy Arkansas, Inc's application for order authorizing acquisition & disposition of jurisdictional assets under Section 203 of the FPA.

Filed Date: 11/30/2007.

Accession Number: 20071205-0128.

Comment Date: 5 p.m. Eastern Time on Friday, December 21, 2007.

Take notice that the Commission received the following electric rate filings:

Docket Numbers: ER96-25-031; ER01-1363-009.

Applicants: Coral Power LLC; Coral Energy Management, LLC.

Description: Coral Power, LLC and Coral Energy Management, LLC submit a notice of non-material change in status and compliance filing.

Filed Date: 12/03/2007.

Accession Number: 20071205-0123.

Comment Date: 5 p.m. Eastern Time on Monday, December 24, 2007.

Docket Numbers: ER97-420-017.

Applicants: ProLiance Energy, LLC.

Description: ProLiance Energy LLC submits revised tariff sheet to replace the 11/5/07 filing along with a redlined copy of its tariff.

Filed Date: 11/29/2007.

Accession Number: 20071203-0009.

Comment Date: 5 p.m. Eastern Time on Friday, December 14, 2007.

Docket Numbers: ER99-2984-009.

Applicants: Green Country Energy, LLC.

Description: Green County Energy, LLC submits a supplement to its 11/9/07 filing of a notice of a non-material change in status.

Filed Date: 11/30/2007.

Accession Number: 20071204-0069.

Comment Date: 5 p.m. Eastern Time on Friday, December 14, 2007.

Docket Numbers: ER01-48-010.

Applicants: Powerex Corp.

Description: Powerex Corp submits a notice of non-material change in status.

Filed Date: 12/03/2007.

Accession Number: 20071205-0117.

Comment Date: 5 p.m. Eastern Time on Monday, December 24, 2007.

Docket Numbers: ER03-774-005.

Applicants: Eagle Energy Partners I, LP.

Description: Eagle Energy Partners I, LP amends its 10/24/07 filing of a Notice of Change in Status by including Appendix B and submits Substitute First Revised Sheet 1 et al to reflect a 9/18/07 effective date etc.

Filed Date: 12/03/2007.

Accession Number: 20071204-0155.

Comment Date: 5 p.m. Eastern Time on Monday, December 24, 2007.

Docket Numbers: ER05-1420-004.

Applicants: Lehman Brothers Commodity Services Inc.

Description: Lehman Brothers Commodity Services Inc submits a revised tariff sheets (Attachment II) to reflect a 9/18/07 effective date for its market based rate tariff.

Filed Date: 12/03/2007.

Accession Number: 20071204-0154.

Comment Date: 5 p.m. Eastern Time on Monday, December 24, 2007.

Docket Numbers: ER05-1232-006; ER05-283-007.

Applicants: JPMorgan Ventures Energy Corporation; JPMorgan Chase Bank, N.A.

Description: Errata to Notice on Non-Material Change in Status Regarding Market-Based Rate Authority of JPMorgan Chase Bank, N.A.

Filed Date: 12/04/2007.

Accession Number: 20071203-5088.

Comment Date: 5 p.m. Eastern Time on Wednesday, December 26, 2007.

Docket Numbers: ER06-1346-002.

Applicants: White Creek Wind I, LLC.

Description: White Creek Wind LLC submits its revised Third Revised Sheet 1 of its FERC Electric Tariff, Original Volume 1.

Filed Date: 12/04/2007.

Accession Number: 20071206-0228.

Comment Date: 5 p.m. Eastern Time on Wednesday, December 26, 2007.

Docket Numbers: ER07-527-002.

Applicants: Longview Fibre Paper and Packaging, Inc.

Description: Longview Fibre Paper and Packaging, Inc submits notice of a non-material change in status related to a change in its upstream ownership.

Filed Date: 11/30/2007.

Accession Number: 20071204-0060.

Comment Date: 5 p.m. Eastern Time on Friday, December 21, 2007.

Docket Numbers: ER07-1094-003.

Applicants: Niagara Mohawk Power Corporation.

Description: Niagara Mohawk Power Corp dba National Grid submits Service Agreement 1151 with an updated effective date pursuant to FERC's 11/2/07 Letter Order.

Filed Date: 12/03/2007.

Accession Number: 20071205-0119.

Comment Date: 5 p.m. Eastern Time on Monday, December 24, 2007.

Docket Numbers: ER07-1105-001.

Applicants: Cedar Creek Wind Energy, LLC.

Description: Notice of Change in Facts Relied Upon by the Commission in Granting Cedar Creek Wind Energy, LLC Market-Based Rate Authority.

Filed Date: 12/03/2007.

Accession Number: 20071203-5029.

Comment Date: 5 p.m. Eastern Time on Monday, December 24, 2007.

Docket Numbers: ER07-1126-004.

Applicants: Niagara Mohawk Power Corporation.

Description: Niagara Mohawk Power Corp dba National Grid submits Service Agreement 1153 with an updated effective date pursuant to FERC's 11/2/07 Letter Order.

Filed Date: 12/03/2007.

Accession Number: 20071205-0118.

Comment Date: 5 p.m. Eastern Time on Monday, December 24, 2007.

Docket Numbers: ER07-1174-002; OA07-74-002.

Applicants: MATL LLP.

Description: MATL LLP submits 11/26/07 revised tariff sheets to its open access transmission tariff.

Filed Date: 12/03/2007.

Accession Number: 20071204-0153.

Comment Date: 5 p.m. Eastern Time on Monday, December 24, 2007.

Docket Numbers: ER07-1249-003.

Applicants: Lockport Energy Associates, L.P.

Description: Lockport Energy Associates, LP submits a revised generation market power screens and a revised description of the seasonal capacity ratings of its facility.

Filed Date: 12/03/2007.

Accession Number: 20071204-0061.

Comment Date: 5 p.m. Eastern Time on Friday, December 14, 2007.

Docket Numbers: ER08-19-003.

Applicants: Energy Algorithms, LLC.

Description: Amendment to application of Energy Algorithms LLC for order accepting market based rate tariff, granting waivers and blanket authority, and request for waiver of prior notice requirement.

Filed Date: 11/26/2007.

Accession Number: 20071207-0199.

Comment Date: 5 p.m. Eastern Time on Friday, December 14, 2007.

Docket Numbers: ER08-88-001.

Applicants: Old Dominion Electric Cooperative, Inc.

Description: Old Dominion Electric Cooperative submits a Revised Interconnection Agreement with A&N Electric Cooperative and 12/4/07 submit an errata to this filing.

Filed Date: 12/04/2007; 12/03/07.

Accession Number: 20071205-0122; 20071205-0121.

Comment Date: 5 p.m. Eastern Time on Tuesday, December 25, 2007.

Docket Numbers: ER08-110-002.

Applicants: Starwood Power-Midway, LLC.

Description: Starwood Power-Midway, LLC submits their revised FERC Electric Tariff, Original Volume 1 and request for shortened notice period of no more than seven days and to waive the Commission's prior notice requirements.

Filed Date: 12/03/2007.

Accession Number: 20071204-0062.

Comment Date: 5 p.m. Eastern Time on Friday, December 14, 2007.

Docket Numbers: ER08-112-001.

Applicants: Idaho Power Company.

Description: Idaho Power Co submits its Open Access Transmission Tariff and a revision to their Annual Informational Filing filed on 10/29/07.

Filed Date: 12/04/2007.

Accession Number: 20071206-0121.

Comment Date: 5 p.m. Eastern Time on Wednesday, December 26, 2007.

Docket Numbers: ER08-169-001.

Applicants: Midwest Independent Transmission System Operator, Inc.; Allete, Inc.

Description: Midwest Independent Transmission System Operator, Inc and ALLETE, Inc submits an errata to their 11/2/07 filing of proposed revisions to Attachment P of their FERC Electric Tariff, Third Revised Volume 1.

Filed Date: 12/04/2007.

Accession Number: 20071206-0123.

Comment Date: 5 p.m. Eastern Time on Wednesday, December 26, 2007.

Docket Numbers: ER08-173-001.

Applicants: Florida Power Corporation.

Description: Florida Power Corp dba Progress Energy Florida, Inc. files an amendment to its cost-based power sales agreement with the City of Williston, Florida.

Filed Date: 12/03/2007.

Accession Number: 20071205-0120.

Comment Date: 5 p.m. Eastern Time on Monday, December 24, 2007.

Docket Numbers: ER08-213-001.

Applicants: Round Rock Energy, LP.

Description: Round Rock Energy, LP submits a supplemental filing to Sheet 1, FERC Electric Tariff, Original Volume 1.

Filed Date: 11/30/2007.

Accession Number: 20071203-0193.

Comment Date: 5 p.m. Eastern Time on Friday, December 21, 2007.

Docket Numbers: ER08-281-000.

Applicants: Oklahoma Gas and Electric Company.

Description: Oklahoma Gas and Electric Co. submits revised tariff sheets for Attachment H and T to the Southwest Power Pool, Inc Open Access Transmission Tariff etc.

Filed Date: 11/30/2007.

Accession Number: 20071204-0071.

Comment Date: 5 p.m. Eastern Time on Friday, December 21, 2007.

Docket Numbers: ER08-282-000

Applicants: New England Power Pool Participants Committee

Description: The New England Power Pool Participants Committee submits Revised Sheet 58 et al to their Second Restated NEPOOL Agreement.

Filed Date: 11/30/2007.

Accession Number: 20071204-0066.

Comment Date: 5 p.m. Eastern Time on Friday, December 21, 2007.

Docket Numbers: ER08-283-000.

Applicants: New York Independent Transmission System Operator, Inc.

Description: New York Independent System Operator, Inc submits amendments to Section 5.14.1(b) of its Market Administration and Control Area Services Tariff for year 2008/2009.

Filed Date: 11/30/2007.

Accession Number: 20071204-0070.

Comment Date: 5 p.m. Eastern Time on Friday, December 21, 2007.

Docket Numbers: ER08-285-000.

Applicants: Tampa Electric Company.

Description: Tampa Electric Co. submits notice of cancellation of its Second Revised Rate Schedule 39, comprising the Agreement to Provide Qualifying Facility Transmission Service with Mosaic Fertilizer, LLC.

Filed Date: 12/03/2007.

Accession Number: 20071204-0063.

Comment Date: 5 p.m. Eastern Time on Monday, December 24, 2007.

Docket Numbers: ER08-286-000.

Applicants: American Electric Power Service Corporation.

Description: AEP Operating Companies submits their first revision to the Interconnection and Local Delivery Service Agreement 1421 with the Village of Vygnet.

Filed Date: 12/03/2007.

Accession Number: 20071204-0065.

Comment Date: 5 p.m. Eastern Time on Monday, December 24, 2007.

Docket Numbers: ER08-287-000.

Applicants: Southwest Power Pool, Inc.

Description: Southwest Power Pool, Inc. submits an executed Service Agreement for Network Integration Transmission Service with Kansas Municipal Energy Agency.

Filed Date: 12/03/2007.

Accession Number: 20071204-0058.

Comment Date: 5 p.m. Eastern Time on Monday, December 24, 2007.

Docket Numbers: ER08-288-000.

Applicants: Southern California Edison Company.

Description: Southern California Edison Co. submits revised rate sheets for the Large Generator Interconnection Agreement with El Segundo Power II, LLC.

Filed Date: 12/03/2007.

Accession Number: 20071204-0059.

Comment Date: 5 p.m. Eastern Time on Monday, December 24, 2007.

Docket Numbers: ER08-289-000.

Applicants: Pacific Gas and Electric Company.

Description: Pacific Gas and Electric Co. submits a generator interconnection agreement with Liberty V Biofuels Power, LLC.

Filed Date: 12/03/2007.

Accession Number: 20071204-0087.

Comment Date: 5 p.m. Eastern Time on Monday, December 24, 2007.

Docket Numbers: ER08-290-000.

Applicants: Niagara Mohawk Power Corporation.

Description: Niagara Mohawk Power Corp dba National Grid submits Service Agreement 1165 and Amendment 1 to the 4/11/02 interconnection agreement.

Filed Date: 12/03/2007.

Accession Number: 20071205-0116.

Comment Date: 5 p.m. Eastern Time on Monday, December 24, 2007.

Docket Numbers: ER08-291-000.

Applicants: Niagara Mohawk Power Corporation.

Description: Niagara Mohawk Power Corp dba National Grid submits Service Agreement 1164, an amended and restated interconnection agreement with Bio-Energy Partners.

Filed Date: 12/03/2007.

Accession Number: 20071205-0111.

Comment Date: 5 p.m. Eastern Time on Monday, December 24, 2007.

Docket Numbers: ER08-292-000.

Applicants: Niagara Mohawk Power Corporation.

Description: Niagara Mohawk Power Corp dba National Grid submits Service Agreement 1163, an amended and restated interconnection agreement with Fibertek Energy, LLC.

Filed Date: 12/03/2007.

Accession Number: 20071205-0113.

Comment Date: 5 p.m. Eastern Time on Monday, December 24, 2007.

Docket Numbers: ER08-293-000.

Applicants: Forward Windpower, LLC.

Description: Petition of Forward Windpower, LLC for order accepting market-based rate tariff for filing and granting waivers and blanket approvals.

Filed Date: 12/03/2007.

Accession Number: 20071205-0112.

Comment Date: 5 p.m. Eastern Time on Monday, December 24, 2007.

Docket Numbers: ER08-294-000.

Applicants: Niagara Mohawk Power Corporation.

Description: Niagara Mohawk Power Corp. dba National Grid submits a power purchase and interconnection agreement dated 4/27/98 with Cogen Energy Technology, LP.

Filed Date: 12/03/2007.

Accession Number: 20071205-0126.

Comment Date: 5 p.m. Eastern Time on Monday, December 24, 2007.

Docket Numbers: ER08-295-000.

Applicants: Niagara Mohawk Power Corporation.

Description: Niagara Mohawk Power Corp dba National Grid submits a power purchase agreement with Indeck-Yerkes Limited Partnership.

Filed Date: 12/03/2007.

Accession Number: 20071205-0124.

Comment Date: 5 p.m. Eastern Time on Monday, December 24, 2007.

Docket Numbers: ER08-296-000.

Applicants: Midwest Independent Transmission System Operator, Inc.

Description: Midwest Independent Transmission System Operator, Inc et al submits revisions to section 37.

Filed Date: 12/03/2007.

Accession Number: 20071205-0114.

Comment Date: 5 p.m. Eastern Time on Monday, December 24, 2007.

Docket Numbers: ER08-297-000.

Applicants: Lookout Windpower, LLC.

Description: Petition of Lookout Windpower, LLC for order accepting market-based rate tariff for filing and granting waivers and blanket approvals.

Filed Date: 12/03/2007.

Accession Number: 20071205-0115.

Comment Date: 5 p.m. Eastern Time on Monday, December 24, 2007.

Take notice that the Commission received the following electric securities filings:

Docket Numbers: ES08-6-000.

Applicants: Southwestern Electric Power Company.

Description: Supplemental Info of Southwestern Electric Power Company.

Filed Date: 11/30/2007.

Accession Number: 20071130-5092.

Comment Date: 5 p.m. Eastern Time on Friday, December 14, 2007.

Take notice that the Commission received the following open access transmission tariff filings:

Docket Numbers: OA07-51-001.

Applicants: Mid-Continent Area Power Pool.

Description: Mid-Continent Area Power Pool submits Third Revised Sheet 2 et al to its FERC Electric Tariff, First Revised Volume 1, effective 11/30/07.

Filed Date: 11/30/2007.

Accession Number: 20071205-0130.

Comment Date: 5 p.m. Eastern Time on Friday, December 21, 2007.

Docket Numbers: OA07-74-002.

Applicants: MATL LLP.

Description: MATL LLP submits 11/26/07 revised tariff sheets to its open access transmission tariff.

Filed Date: 12/03/2007.

Accession Number: 20071204-0153.

Comment Date: 5 p.m. Eastern Time on Monday, December 24, 2007.

Docket Numbers: OA08-17-000.

Applicants: WSPP Inc.

Description: WSPP Inc submits revisions to its Open Access Transmission Tariff incorporating specific changes to the Order 888 proforma OATT adopted by the FERC in Order 890.

Filed Date: 12/03/2007.

Accession Number: 20071206-0125.

Comment Date: 5 p.m. Eastern Time on Monday, December 24, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E7-24241 Filed 12-13-07; 8:45 am]

BILLING CODE 6717-01-P